DEPARTMENT OF DEFENSE

Department of the Army

Advisory Subcommittee Meeting Notice

AGENCY: Department of the Army, DOD.

ACTION: Notice of meeting.

SUMMARY: Pursuant to the Federal Advisory Committee Act of 1972 (5 U.S.C., Appendix, as amended), the Sunshine in the Government Act of 1976 (U.S.C. 552b, as amended) and 41 Code of the Federal Regulations (CFR 102-3. 140 through 160), the Department of the Army announces the following subcommittee meeting:

Name of Committee: U.S. Army Command & General Staff College Subcommittee.

Date: October 28-29, 2008.

Place: U.S. Army Command and General Staff College, Ft. Leavenworth, KS, Lewis & Clark Center, 66027.

Time: 8:30 a.m. to 4 p.m. (October 28, 2008); 8:30 a.m. to 12 p. m. (October 29, 2008).

Proposed Agenda: Starting point of the meeting will be an overview of the CGSC, as well as its constituent schools, the Command and General Staff School and the School of Advanced Military Studies. Subcommittee members will gather information from students, staff and faculty. General deliberations leading to provisional findings for referral to the Army Education Advisory Committee will follow on 29 October beginning at about 0900.

FOR FURTHER INFORMATION CONTACT: For information, please contact Dr. Robert Baumann at robert.f.baumann@us.army.mil. Written submissions are to be submitted to the following address: U.S. Army Command and General Staff College Subcommittee, ATTN: Alternate Designated Federal Officer (Baumann), Lewis & Clark Center, U.S. Army Command and General Staff College, Ft. Leavenworth, KS 66027.

SUPPLEMENTARY INFORMATION: Meeting of the Advisory subcommittee is open to the public. Attendance will be limited to those persons who have notified the Advisory Subcommittee Management Office at least 10 calendar days prior to the meeting of their intention to attend.

Filing Written Statement: Pursuant to 41 CFR 102-3.140d, the Committee is not obligated to allow the public to speak, however, interested persons may submit a written statement for consideration by the Subcommittees. Individuals submitting a written statement must submit their statement to the Alternate Designated Federal Officer (ADFO) at the address listed (see FOR FURTHER INFORMATION CONTACT). Written statements not received at least 10 calendar days prior to the meeting, may not be provided to or considered by the subcommittees until its next meeting.

The ADFO will review all timely submissions with the Chairperson, and ensure they are provided to the members of the respective subcommittee before the meeting. After reviewing written comments, the Chairperson and the ADFO may choose to invite the submitter of the comments to orally present their issue during open portion of this meeting or at a future meeting.

The ADFO, in consultation with the Chairperson, may allot a specific amount of time for the members of the public to present their issues for review and discussion.

Brenda S. Bowen,
Army Federal Register Liaison Officer.

[FR Doc. E8-22758 Filed 9-26-08; 8:45 am]

BILLING CODE 3710-08-P